DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. chapter 35).

Agency: United States Patent and Trademark Office (USPTO).

Title: Trademark Trial and Appeal Board (TTAB) Actions.

Form Number(s): PTO 2120, 2151, 2153, 2188, 2189, and 2190.

Agency Approval Number: 0651-0040.

Type of Request: Reinstatement, with change, of a previously approved collection for which approval has expired.

Burden: 12,505 hours annually.

Number of Respondents: 46,900 responses per year. The USPTO estimates that of this total, 4,400 notices of opposition, 1,100 electronic notices of opposition, 21,000 extensions of time to file an opposition, 9,000 electronic requests for extension of time to file an opposition, 1,520 petitions to cancel, 380 electronic petitions to cancel, 5,000 electronic papers in inter partes cases, 2,400 notices of appeal, 600 electronic notices of appeal, and 1,500 electronic miscellaneous ex parte papers will be submitted per year.

Avg. Hours Per Response: The USPTO estimates that it will take the public an average of 10 to 45 minutes to gather the information, prepare the notices of opposition, the extension of time to file an opposition, the petitions to cancel, the notices of appeal, and the additional papers needed in inter partes and ex partes cases, and submit them to the TTAB. The USPTO estimates that it takes 10 minutes to complete the extension of time to file an opposition and 10 minutes to complete the form for submission of additional papers needed for inter partes and ex parte cases, 15 minutes to complete a notice of appeal, and 45 minutes to complete the notice of opposition and the petition to cancel. The USPTO believes that it takes the same amount of time to complete these items electronically as well.

Needs and Uses: Individuals or entities, believing that they are or will be damaged by the registration of a trademark or service mark, may file an opposition to the registration of that mark or a request for an extension of time to file an opposition under Section 13 of the Trademark Act, 15 U.S.C. 1063. Sections 14 and 20 of the Trademark Act, 15 U.S.C. 1064 and 1070, allow individuals and entities to file a petition to cancel the registration of a mark or a notice of appeal. The USPTO administers the Trademark Act according to 37 CFR part 2. These actions are governed by the Trademark Trial and Appeal Board (TTAB), an administrative tribunal empowered to determine the right to register and subsequently determine the validity of a trademark. If a mark is successfully opposed or canceled, registration will not take place. There are no paper forms associated with this collection; however, there are forms available to submit this information electronically through the Electronic System for Trademark Trials and Appeals (ESTTA).

Affected Public: Individuals or households, businesses or other for-profits, not-for-profit institutions, farms, the Federal Government, and State, local or tribal governments.

Frequency: On occasion.

Respondent's Obligation: Required to obtain or retain benefits.

OMB Desk Officer: David Rostker, (202) 395-3897.

Copies of the above information collection proposal can be obtained by calling or writing Susan K. Brown, Records Officer, Office of the Chief Information Officer, Office of Data Architecture and Services, Data Administration Division, 703-308-7400, U.S. Patent and Trademark Office, P.O. Box 1450, Alexandria, VA 22313, Attn: CPK 3 Suite 310; or by e-mail at susan.brown@uspto.gov.

Written comments and recommendations for the proposed information collection should be sent on or before July 12, 2004, to David Rostker, OMB Desk Officer, Room 10202, New Executive Office Building, 725 17th Street, NW., Washington, DC 20503.

Dated: June 3, 2004.
Susan K. Brown,
Records Officer, USPTO, Office of the Chief Information Officer, Office of Data Architecture and Services, Data Administration Division.

[FR Doc. 04-13132 Filed 6-9-04; 8:45 am]

BILLING CODE 3510-16-P